DEPARTMENT OF THE INTERIOR

Bureau of Reclamation

California Bay-Delta Public Advisory Committee; Notice of Establishment

AGENCY: Bureau of Reclamation, Interior.

ACTION: Notice of establishment.

SUMMARY: This notice is published in accordance with Section 9(a)(2) of the Federal Advisory Committee Act of 1972 (Pub. L. 92-463). Following consultation with the General Services Administration, notice is hereby given that the Secretary of the Interior is establishing the California Bay-Delta Public Advisory Committee (Committee). The purpose of the Committee is to provide assistance and recommendations to the Secretary of the Interior and the Governor of California through the CALFED Policy Group or its successor on implementation of the CALFED Bay-Delta Program as described in the Programmatic Record of Decision which outlines the long-term comprehensive solution for addressing the problems affecting the San Francisco Bay/Sacramento-San Joaquin Delta Estuary. The Committee will provide recommendations on implementation of each element of the CALFED Program through the completion of State 1 (first 7 years). Specific responsibilities of the Committee include: (1) Making recommendations on annual priorities and coordination of Program actions to achieve balanced implementation of the Program elements; (2) providing recommendations on effective integration of program elements to provide continuous, balanced improvement of each of the Program objectives (ecosystem restoration, water quality, levee system integrity, and water supply reliability); (3) evaluating implementation of Program actions in State 1, including assessment of Program area performance; (4) reviewing, commenting and making recommendations on Annual Reports regarding the implementation of Program elements as set forth in Programmatic Record of Decision to the Secretary, Governor, the Congress, the California Legislature, and other interested parties; (5) recommending program actions based on recommendations from the Committee workgroups and subcommittees; and (6) liaison between the Committee's workgroups, subcommittees, the State and Federal agencies and the public.

The Committee will consist of approximately 20 to 30 members who will be appointed by the Secretary in consultation with the Governor.

FOR FURTHER INFORMATION CONTACT: Nan Yoder, CALFED Program Manager, 2800 Cottage Way, Sacramento, California 95821-1898, telephone (916) 978-5523.

The certification of establishment is published below:

Certification

I hereby certify that establishment of the California Bay-Delta Public Advisory Committee is in the public interest in connection with the performance of duties imposed on the Department of the Interior.

Bruce Babbitt,
Secretary of the Interior.

[FR Doc. 01-1873 Filed 1-22-01; 8:45 am]

BILLING CODE 4310-94-M